DEPARTMENT OF COMMERCE

National Institute of Standards and Technology

AGENCY: National Institute of Standards and Technology Commerce, Commerce.

ACTION: Notice of government owned inventions available for licensing.

SUMMARY: The invention listed below is owned in whole or in part by the U.S. Government, as represented by the Department of Commerce. The Department of Commerce's ownership interest in the invention is available for licensing in accordance with 35 U.S.C. 207 and 37 CFR Part 404 to achieve expeditious commercialization of results of Federally funded research and development.

FOR FURTHER INFORMATION CONTACT: Technical and licensing information on this invention may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (“CRADA”) with the licensee to perform further research on the inventions for purposes of commercialization. The invention available for licensing is:

NIST Docket Number: 99-016/025US.

Title: Device for Stable Speed Determination in Machining.

Abstract: The device utilizes a non-contact force actuator to drive a machine-tool with a train of impulsive forces having a known, time-varying frequency to identify the speeds least likely to produce chatter (regenerative vibrations). This can be done in real time without the need for exhaustive cutting tests. The machine-tool spindle and a non-contact magnetic force actuator are used to produce the time-varying impulse train. This impulse train has significant energy at the spindle speed and its harmonics. As the spindle speed is ramped up from zero to the maximum speed, those speeds that maximize the dynamic response of the tool are the speeds that minimize regenerative chatter. The device is suitable for integration with the machine-tool controller, and could potentially allow the optimal speeds for each tool to be downloaded and stored for later use in NC programming.

Dated: April 17, 2000.
Karen H. Brown,
Deputy Director.

[FR Doc. 00-10007 Filed 4-20-00; 8:45 am]

BILLING CODE 3510-13-M